DEPARTMENT OF JUSTICE

Office of Community Oriented Policing Services; FY 2002 Community Policing Discretionary Grants

AGENCY: Office of Community Oriented Policing Services, Department of Justice.

ACTION: Notice of availability.

SUMMARY: The U.S. Department of Justice, Office of Community Oriented Policing Services (COPS) announces the availability of Universal Hiring Program (UHP) grants to pay up to 75 percent of the entry-level salary and benefits for newly hired, additional sworn officers over a three year grant term, up to a maximum of $75,000 per officer. A minimum 25 percent local match, paid with state or local funds, is required. To qualify for funding, officers must be hired on or after the grant award start date. Funding will begin once the new officers have been hired on or after the date of the award, and will be paid over the course of the grant. At the time of application, applicants must agree to plan for the retention of each COPS-funded UHP position awarded with state, local or other non-COPS funds at the conclusion of federal funding, for a minimum of one full local budget cycle. The retention requirement cannot be satisfied through attrition. All policing agencies, as well as jurisdictions seeking to establish new policing agencies, are eligible to apply for this program.

DATES: The priority consideration deadline for UHP funding is May 24, 2002. The second and final deadline date for all UHP applications is June 21, 2002. All UHP applications must be postmarked by the final deadline date. Applications postmarked after the final deadline date will not be considered. All grant awards are subject to the availability of funds. In the event that UHP funding requests exceed available grant funds, applications may be considered in subsequent fiscal years. Since funding is limited under UHP, we encourage interested agencies to apply early.

ADDRESSES: To obtain a copy of an application or for additional information, call the U.S. Department of Justice Response Center at 1-800-421-6770. The UHP application kit and information on the COPS Office are also available on the Internet via the COPS Web site at: www.cops.usdoj.gov.

SUPPLEMENTARY INFORMATION:

Overview

The Violent Crime Control and Law Enforcement act of 1994 (Pub. L. 103-322) authorizes the Department of Justice to make grants to increase deployment of law enforcement officers devoted to community policing on the streets and rural routes of this nation. The Universal Hiring Program (UHP) enables interested agencies to supplement their current sworn forces, or interested jurisdictions to establish a new agency, through federal grants for up to three years. All policing agencies, as well as jurisdictions seeking to establish new policing agencies, are eligible to apply for this program.

Grants will be made for up to 75 percent of the entry level salary and benefits for each new officer over three years, up to a maximum of $75,000 per officer, with a required minimum 25 percent local match to be paid with state or local funds. Funding will begin once the new officers have been hired on or after the date of the award, and will be paid over the course of the grant. Officers must be hired on or after the grant award start date to qualify for grant funding.

Waivers of the non-federal matching requirement may be requested under UHP, but will be granted only upon a demonstration of extraordinary fiscal hardship.

COPS grant funds must not be used to replace funds that eligible agencies otherwise would have devoted to officer hiring in the absence of the grant. In other words, any hiring under UHP must be in addition to, and not in lieu of, officers that otherwise would have been hired. At the time of application, applicants must agree to plan for the retention of each COPS-funded UHP position awarded with state, local or other non-COPS funds at the conclusion of federal funding, for a minimum of one full local budget cycle. The retention requirement cannot be satisfied through attrition.

An award under the COPS Universal Hiring Program will not affect the consideration of an agency's eligibility for a grant under other COPS programs.

The Catalog of Federal Domestic Assistance (CFDA) reference for this program is 16.710.
Dated: March 15, 2002.
Carl R. Peed,
Director, Office of Community Oriented Policing Services.

[FR Doc. 02-8115 Filed 4-3-02; 8:45 am]

BILLING CODE 4410-AT-M